DEPARTMENT OF ENERGY

Hydrogen and Fuel Cell Technical Advisory Committee (HTAC): Correction

AGENCY: Department of Energy.

ACTION: Notice of open meeting: correction.

SUMMARY: The Department of Energy (DOE) published in the Federal Register on March 5, 2014, a notice of an open meeting for the Hydrogen and Fuel Cell Technical Advisory Committee (HTAC). The notice is being corrected to change the address of the meeting.

Correction

In the Federal Register of March 5, 2014, in FR DOC. 2014-04834, on page 12501, please make the following corrections:

In the ADDRESSES heading, second column, first paragraph, first line, please remove, “U.S. Department of Energy, 1000 Independence Avenue SW., Washington, DC 20585, Room 6A-112 and in its place add “The Radisson Hotel—Reagan National Airport, 2020 Jefferson-Davis Highway, Arlington, Virginia 22202”.

Issued in Washington, DC, on March 13, 2014.
LaTanya R. Butler,
Deputy Committee Management Officer.

[FR Doc. 2014-06043 Filed 3-18-14; 8:45 am]

BILLING CODE 6450-01-P